DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Union Pacific Railroad Company

[Waiver Petition Docket Number FRA-2003-16306]

The Union Pacific Railroad Company (UP) seeks a waiver of compliance from certain provisions of the Railroad Locomotive Safety Standards, 49 CFR part 229. Specifically, UP requests relief from the requirements of 49 CFR 229.27(a)(2) Annual Tests and 49 CFR 229.29(a) Biennial Tests, applicable to all existing and future installations of electronic air brake equipment furnished by Wabtec Corporation of Wilmerding, Pennsylvania on UP locomotives.

Part 229.27(a)(2) requires that, “Brake cylinder relay valve portions, main reservoir safety valves, brake pipe vent valve portions, feed and reducing valve portions in the air brake system (including related dirt collectors and filters) shall be cleaned, repaired, and tested” at intervals that do not exceed 368 calendar days. Part 229.29(a) requires in part that “* * * all valves, valve portions, MU locomotive brake cylinders and electric-pneumatic master controllers in the air brake system (including related dirt collectors and filters) shall be cleaned, repaired, and tested at intervals that do not exceed 736 calendar days.” UP requests these provisions be temporarily waived to allow them to conduct a long term test program designed to show that Wabtec's electronic air brake technology has sufficiently improved overall system reliability and safety to a point where it is now possible to move toward a “component repair as required, performance based COT&S criterion” similar in scope to that outlined a previous waiver granted September 1, 2000, to CSX Transportation in Docket FRA-1999-6252. This referenced waiver covers CSXT locomotives utilizing New York Air Brake Corporation's Computer Controlled Brake (CCB) equipment, with the intent of moving to a component repair as required, performance-based COT&S criterion.

In 1985, the time interval for the requirements of § 229.29(a) was extended to 1,104 calendar days for 26L Brake equipment based on proven service reliability with the evolution of improved components. The time interval for Wabtec's EPIC equipment was extended to five years in 1992, per FRA Test Waiver, H-92-3 (since renamed FRA-2002-13397.) Currently, UP has more than 1700 locomotives equipped with the Wabtec EPIC brake equipment and maintained under the conditions of waiver FRA-2002-13397.

UP believes the “vigilance” capability of Wabtec's electronic equipment is key to this waiver request. This feature employs the controlling computer to constantly monitor the proper functioning of the system as a whole and in real time. If any key operational parameters are found to fall outside of the allowable tolerance established for each, an appropriate action is automatically and immediately initiated to insure safe operation of the equipment. Less critical faults are logged for follow-up maintenance. UP concludes that the combination of real time vigilant monitoring and fault logging enables “EPIC” COT&S intervals to be similarly increased beyond the current five years with no impact on safety.

Therefore, UP proposes to initiate a test program to extend the Wabtec electronic air brake COT&S based on the following assertions: (1) A reduction of pneumatic devices by substitution of computer-based logic; (2) real time fault detection and control of critical faults to a known fail-safe condition made possible by constant “vigilance” of the controlling computer; (3) development of emergency brake cylinder pressure accomplished conventionally by a back-up pneumatic control valve, as well as electronically under all conditions; (4) demonstrated performance to date of Wabtec “EPIC” brake system under the current waiver FRA 2002-13397 (formally H-92-3); and (5) supporting test and inspection results documented over the past decade for the “EPIC” equipment as required by the current waiver.

As part of this waiver request, UP recommends that a detailed test plan, necessary for properly tracking and documenting the results, be jointly developed between UP, Wabtec Corporation, and FRA. At the completion of the test program, UP further requests that FRA conduct a formal review of the results relative to the objective of moving toward a “performance-based COT&S” criterion.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2003-16306) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; pages 19477-78). The statement may also be found at http://dms.dot.gov.

Issued in Washington, DC on December 5, 2003.
Grady C. Cothen, Jr.,
Deputy Associate Administrator for Safety Standards and Program Development.

[FR Doc. 03-30650 Filed 12-10-03; 8:45 am]

BILLING CODE 4910-06-P